DEPARTMENT OF HEALTH AND HUMAN SERVICES

Centers for Disease Control and Prevention

[60Day-05AP]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5976 or send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Spanish-language Folic Acid Communication Research and Creative Production—New—National Center on Birth Defects and Developmental Disabilities (NCBDDD), Centers for Disease Control and Prevention (CDC).

Background and Brief Description

Pregnancies and births affected by spina bifida or anencephaly have profound physical, emotional, and financial effects on families and communities. Recent data from the National Birth Defects Prevention Network surveillance system shows that folic acid food fortification has resulted in an approximate overall 25% decline in Neural Tube Defect (NTD) affected pregnancies. Since food fortification in 1998, the number of babies born in the United States with these serious birth defects has declined. Before food fortification, CDC estimated that there were about 4,000 NTD-affected pregnancies each year. Since 1999, CDC has observed a decline so that the CDC National Center of Birth Defect and Developmental Disabilities now estimate that, annually, there are about 3,000 NTD-affected pregnancies.

Despite these exciting developments, Hispanic women in the United States remain the most vulnerable for having an NTD-affected pregnancy. The specific reason for this increased risk remains a mystery. What we do know is that they have a higher risk than Caucasian and African American women in the United States. Surveys conducted by CDC in 1999 and 2000 also showed that Hispanic women had the lowest reported folic acid knowledge and consumption. In 1995 and 1996 during the pre-fortification period, the prevalence of spina bifida and anencephaly among Hispanic women was about 10 per 10,000 /births or pregnancies compared to about 8 per 10,000 among Whites and almost 6 per 10,000 among Blacks. Because Hispanic women still have the highest rate among the 3 racial/ethnic groups, CDC continues to make reaching them its top priority.

CDC is interested in continuing to reach Spanish-speaking Hispanic women in the United States. Preliminary results from the Spanish Folic Acid Campaign Evaluation Survey (SFACES) have shown that a strategy that combines local outreach efforts and paid/earned media efforts is effective. However, CDC does not anticipate budgetary increases that could make a national-level Spanish language campaign possible. Also, CDC is concerned that the SFACES campaign materials, which were developed in 1999, may be becoming “dated.” While CDC has no hard evidence that they are no longer effective, CDC does want to examine their effectiveness in a robust manner before decisions are made about whether to keep using them in outreach efforts in selected communities throughout the U.S. CDC is also interested in developing a deeper understanding of sub-groups of women within the Spanish-speaking Hispanic population and developing effective communication strategies for reaching them.

This project includes a systematic communication research and product development process involving, and ultimately serving, Spanish-speaking Hispanic women. These activities include:

a. Developing a multivariate audience-segmentation scheme using existing data from Spanish-speaking Hispanic women;

b. Assessing the effectiveness of current campaign materials with the identified audience segments;

c. Conducting qualitative research with audience segments;

d. Developing audience profiles for each audience segment;

e. Developing draft communication plans based on audience profiles that outlines potential outreach strategies;

f. Presenting the possibilities to key internal and external stakeholders to solicit input;

g. Developing and testing concepts, messages, and materials along with implementation plans for their use; and,

h. Producing master quality copies of each material in formats that CDC and partners can use for mass production and dissemination.

There are no costs to respondents except their time to participate in the survey.

Annualized Burden Table
Respondents | No. of respondents | No. of responses per respondent | Average burden per response (in hours) | Total burden (in hours)
Hispanic girls, 13-18 (interviews) | 60 | 1 | 30/60 | 30
Hispanic girls, 13-18 (2 focus groups) | 24 | 1 | 1.5 | 36
Parents of Hispanic girls, 13-18 (interviews) | 30 | 1 | 30/60 | 15
Hispanic women, 19-35 (interviews) | 120 | 1 | 30/60 | 60
Hispanic women, 19-35 (4 focus groups) | 48 | 1 | 1.5 | 72
Materials distributors (3 focus groups) | 36 | 1 | 1.5 | 54
Total | 318 |  |  | 267

Dated: December 3, 2004.
Alvin Hall,
Director, Management Analysis and Services Office, Centers for Disease Control and Prevention.

[FR Doc. 04-27192 Filed 12-10-04; 8:45 am]

BILLING CODE 4163-18-P